DEPARTMENT OF EDUCATION

School Dropout Prevention Program

AGENCY: Office of Vocational and Adult Education, Department of Education.

ACTION: Notice of proposed priorities, requirements, definitions, and selection criteria.

SUMMARY: The Assistant Secretary for Vocational and Adult Education proposes priorities, requirements, definitions, and selection criteria under the School Dropout Prevention (SDP) program. The Assistant Secretary may use one or more of these priorities, requirements, definitions, and selection criteria for competitions in fiscal year (FY) 2005 and later years. We intend the priorities, requirements, definitions, and selection criteria to strengthen the quality of applications and provide greater understanding of the Department's intent regarding the direction of this program.

DATES: We must receive your comments on or before June 13, 2005.

ADDRESSES: Address all comments about these proposed priorities, requirements, definitions, and selection criteria to Valerie Randall-Walker, U.S. Department of Education, 400 Maryland Avenue, SW., Potomac Center Plaza, room 11081, Washington, DC 20202-7241. If you prefer to send your comments through the Internet, use the following address: dropoutprevention@ed.gov.

You must include the phrase “SDP Comments” in the subject line of your electronic message.

FOR FURTHER INFORMATION CONTACT: Valerie Randall-Walker. Telephone: (202) 245-7794.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation to Comment

We invite you to submit comments regarding these proposed priorities, requirements, definitions, and selection criteria. To ensure that your comments have maximum effect in developing the notice of final priorities, requirements, definitions, and selection criteria, we urge you to identify clearly the specific priority, requirement, definition, or selection criterion that each comment addresses.

We invite you to assist us in complying with the specific requirements of Executive Order 12866 and its overall requirement of reducing regulatory burden that might result from these proposed priorities, requirements, definitions, and selection criteria. Please let us know of any further opportunities we should take to reduce potential costs or increase potential benefits while preserving the effective and efficient administration of the program.

During and after the comment period, you may inspect all public comments about these proposed priorities, requirements, definitions, and selection criteria at 550 12th Street, SW., Potomac Center Plaza, room 11081, Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for these proposed priorities, requirements, definitions, and selection criteria. If you want to schedule an appointment for this type of aid, please contact the person listed under FOR FURTHER INFORMATION CONTACT.

Background

With the enactment of the No Child Left Behind Act of 2001 (NCLB), our nation made a commitment to closing the achievement gap between disadvantaged and minority students and their peers and to changing the culture of America's schools so that all students receive the support and high-quality instruction they need to meet higher expectations. A critical part of this challenge, at the high school level, is reducing the number of young people who disengage and drop out of school. As several recent national studies have found, a staggering number of youth fail to graduate on time.

The complexity of the dropout problem requires the attention of multiple agencies because numerous factors contribute to a student's decision to drop out. Therefore, successful dropout prevention and reentry activities should involve many agencies and community organizations and institutions in strong collaborative activities. By combining their expertise and resources, these entities can achieve much more than they could individually. Through these proposed priorities, requirements, definitions, and selection criteria, we propose to limit eligibility for SDP funding to State educational agencies (SEAs) and, under Priority #1, to require an SEA to partner with at least one other agency in its efforts to reduce the dropout rate in high schools (grades 9-12) where the annual dropout rate exceeds the State average.

Another vital element for successful dropout prevention and reentry programs is the early identification of at-risk students and the implementation of a customized set of services and interventions that address the needs of those students. We propose Priority #2 to require applicants to work with local educational agencies (LEAs) to use the State's eighth grade assessment to identify those students who could benefit from intensive early assistance. We believe that by incorporating these strategies into the SDP program, the Department would make grants to SEAs for activities that have the highest probability of reducing dropout rates.

We will announce the final priorities, requirements, definitions, and selection criteria in a notice in the Federal Register. We will determine the final priorities, requirements, definitions, and selection criteria after considering responses to this notice and other information available to the Department. This notice does not preclude us from proposing or using additional priorities, requirements, definitions, or selection criteria, subject to meeting applicable rulemaking requirements.

Note: This notice does not solicit applications. In any year in which we choose to use these proposed priorities, requirements, definitions, and selection criteria, we invite applications through a notice in the Federal Register. When inviting applications we designate each priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive preference priority (34 CFR 75.105(c)(2)(i)) or (2) selecting an application that meets the competitive preference priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Proposed Priorities

Proposed Priority 1—Collaboration with Other Agencies

Under this priority, an applicant must include in its application evidence that other public or private entities will be involved in, or provide financial support for, the implementation of the activities described in the application. Applicants may involve such State agencies as those responsible for administering postsecondary education, Title I of the Workforce Investment Act, Temporary Assistance for Needy Families, Medicaid, the State Children's Health Insurance Program, foster care, juvenile justice, and others. Applicants also may collaborate with business and industry, civic organizations, foundations, and community- and faith-based organizations, among other private-sector entities. Acceptable evidence of collaboration is a memorandum of understanding or other document signed by the principal officer of each participating agency that identifies (1) how the agency will be involved in the implementation of the project or (2) the financial resources (cash or in-kind) that it will contribute to support the project, or both.

Rationale: The development and implementation of an effective, sustainable, and coordinated statewide school dropout prevention and reentry program requires significant participation by other public or private entities. Students drop out for a myriad of reasons, some of which are beyond the control of schools. The resources and expertise of health, juvenile justice, social services, workforce development, and other agencies can make a powerful contribution to improving student retention in and completion of high school. Business and industry, community- and faith-based organizations, and other private entities also can play valuable roles in a comprehensive dropout prevention and reentry strategy.

Proposed Priority 2—Individual Performance Plans for At-Risk Incoming Ninth Grade Students

Under this priority, an applicant must propose to work with LEAs to assist schools in using eighth grade assessment and other data to develop and implement (in consultation with parents, teachers, and counselors) individual performance plans for students entering the ninth grade who are at risk of failing to meet challenging State academic standards and of dropping out of high school. The plans would identify specific interventions to improve the academic achievement of these students and other supports and services they need in order to succeed in high school.

Rationale: Though junior high schools and middle schools have extensive information about the academic achievement and special needs of their students, this information often does not follow students immediately as they enter ninth grade. Too frequently, the special needs of at-risk students entering the ninth grade go unrecognized by school administrators and teachers until well into the academic year. Academic assessment and other relevant data about each entering ninth grade student should be immediately and readily accessible to high school administrators, teachers, and counselors at the start of the school year so that they can identify at-risk students and devise a customized set of services and interventions to help them succeed.

Proposed Additional Requirements

The Assistant Secretary proposes the following requirements for the SDP program. We may apply these requirements in any year in which this program is in effect.

Proposed Eligibility Requirement—State Educational Agencies

The Secretary proposes that to be eligible for funding under this program, an applicant must be an SEA.

Rationale: Federal resources under this program can be used most effectively to improve high school completion rates by using those resources to support the implementation of comprehensive, statewide strategies by SEAs. Under this approach, high schools within a State that have dropout rates above the State average would receive technical assistance and support from an SEA that receives funding through the SDP program. Awarding grants to a small number of LEAs would have a far more limited impact.

Proposed Evaluation Requirements

We propose to require that each applicant include in its application a plan to support an independent, third-party evaluation of its SDP project and that the applicant reserve not less than 10 percent of its grant award for this evaluation. We propose that, at a minimum, the evaluation must—

(a) Be both formative and summative in nature;

(b) Include performance measures that are clearly related to the intended outcomes of the project and the Government Performance and Results Act (GPRA) indicators for the SDP program described elsewhere in this notice;

(c) Measure the effectiveness of the project, including a comparison between the intended and observed results and, if appropriate, a demonstration of a clear link between the observed results and the specific treatment given to project participants;

(d) Measure the extent to which the SEA implements an effective, sustainable, and coordinated school dropout prevention and reentry program; and

(e) Measure the extent to which the project implements research-based strategies and practices.

In addition, we propose to require that applicants submit their proposed project evaluation designs to the Department for review and approval prior to the end of the second month of the project period.

We also propose that each evaluation include (i) an annual report for each of the first two years of the project period, and (ii) a final report that would be completed at the end of the third year of implementation and that would include information on implementation during the third year as well as information on the implementation of the project across the entire project period. We would require each grantee to submit each of these annual reports to the Department along with its required annual performance report.

Rationale: The implementation of an effective, sustainable, and coordinated statewide school dropout prevention and reentry program is difficult and complex work that requires coordinating a variety of activities with multiple entities. An evaluation that provides regular feedback on the progress of implementation and the project's outcomes can help the SEA identify successes and areas in which improvement is needed.

Proposed Performance Measures Requirements

Under the GPRA, the Department is currently using the following two performance measures to assess the effectiveness of the SDP program: (1) the dropout rate in schools receiving program funds, and (2) the percentage of students reentering schools who complete their secondary education. Applicants for a grant under this program are advised to consider these two performance measures in conceptualizing the approach and evaluation of their proposed project. To assist the Department in assessing progress under the first measure, we propose that an applicant use its State event dropout rate as the GPRA indicator and submit, as part of its application to the Department, a projected State event dropout rate for each year of the project. If funded, applicants would then be asked to collect and report data for these indicators in their performance and final reports for each year of the project. We will notify grantees if they will be required to provide any additional information related to the two measures.

Proposed Requirements for Accountability for Results

We propose to require applicants to identify in their applications at least two specific performance indicators and annual performance objectives for the schools that receive services and technical assistance through projects funded under this program in addition to the two GPRA indicators. Applicants may identify and report on additional student indicators, such as graduation rates; year-to-year retention; rates of average daily attendance; the percentage of secondary school students who score at the proficient or advanced levels on the reading/English language arts and mathematics assessments used by the State to measure adequate yearly progress under part A of title I of the Elementary and Secondary Education Act of 1965, as amended (ESEA); student achievement and gains in English proficiency; and the incidence of school violence, drug and alcohol use, and disciplinary actions.

We propose to require applicants to identify annual performance objectives for the two GPRA indicators and the two additional indicators identified in the application. The Department intends to negotiate these performance levels with potential grantees.

We are proposing that applicants identify all outcomes in their evaluation plan that are relevant to the scope of the project and will assist in continuous improvement of the services offered.

Proposed Definitions

In addition to the definitions in the authorizing statute and 34 CFR 77.1, we propose that the following definitions also apply to this program. We may apply these definitions in any year in which we conduct a SDP competition.

High school dropout means an individual who

(a) Was enrolled in a district in grades 9-12 at some time during the preceding school year;

(b) Was not enrolled at the beginning of the current school year;

(c) Has not graduated or completed a program of studies by the maximum age established by a State;

(d) Has not transferred to another public school district or to a nonpublic school or to a State-approved educational program; and

(e) Has not left school because of death, illness, or a school-approved absence.

State event dropout rate means the dropout rate calculated by dividing the number of high school dropouts (as defined elsewhere in this notice) in the State by the total number of students enrolled in grades 9 through 12 in public schools in the State during the current school year. This calculation is based upon the annual school event dropout rate calculation of the National Center for Education Statistics' Common Core of Data.

School event dropout rate means the dropout rate calculated by dividing the number of high school dropouts (as defined elsewhere in this notice) in a school by the total number of students enrolled in grades 9 through 12 in that school during the current school year.

Proposed Selection Criteria

In addition to the selection criteria to be selected by the Department from among the criteria in 34 CFR part 210, we propose to use the following selection criteria to evaluate applications for new grants under this program. We may apply these criteria in any year in which we conduct a SDP competition.

Quality of project design. In determining the quality of the project design, we will consider the extent to which—

(a) The applicant demonstrates its readiness to implement a comprehensive and coordinated statewide dropout and reentry program;

(b) The activities described in the application are evidence-based and likely to be successful in improving the graduation rate within the State, particularly among youth who are at the greatest risk of dropping out;

(c) Other public and private agencies will support and participate in the implementation of the proposed project; and

(d) The technical assistance activities that will be undertaken by the applicant are likely to be successful in helping local educational agencies use eighth grade assessment and other data to develop individual performance plans for entering ninth graders who are at risk of failing to meet challenging State academic standards and of dropping out of high school.

Adequacy of resources. In determining the adequacy of resources for the proposed project, we consider the following factors:

(a) The extent of the cash or in-kind support the SEA will provide.

(b) The extent of the cash or in-kind support other public and private agencies will contribute to the implementation of the proposed project.

Quality of the management plan. In determining the quality of the management plan for the proposed project, we consider the following:

(a) The adequacy of the management plan to achieve the objectives of the proposed project on time and within budget, including the extent to which the plan clearly defines the roles and responsibilities of each agency and its key personnel and establishes detailed timelines and milestones for accomplishing each of the project tasks.

Quality of the project evaluation. In determining the quality of the evaluation, we consider the following factors:

(a) Whether the independent third-party evaluator identified in the application has the necessary background and expertise to carry out the evaluation.

(b) The extent to which the methods of evaluation will yield accurate and reliable data for each of the required performance indicators.

(c) The extent to which the evaluation will produce reports or other documents at appropriate intervals to enable the agencies, organizations, or institutions participating in the project to use the data for planning and decision-making for continuous program improvement.

Executive Order 12866

This notice of proposed priorities, requirements, definitions, and selection criteria has been reviewed in accordance with Executive Order 12866. Under the terms of the order, we have assessed the potential costs and benefits of this regulatory action.

The potential costs associated with the notice of proposed priorities, requirements, definitions, and selection criteria are those resulting from statutory requirements and those we have determined as necessary for administering this program effectively and efficiently.

In assessing the potential costs and benefits—both quantitative and qualitative—of this notice of proposed priorities, requirements, definitions, and selection criteria, we have determined that the benefits of the proposed priorities, requirements, definitions, and selection criteria justify the costs.

We have also determined that this regulatory action does not unduly interfere with State, local, and tribal governments in the exercise of their governmental functions.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index/html.

(Catalog of Federal Domestic Assistance Number 84.360A School Dropout Prevention Program)
Program Authority: 20 U.S.C. 6561-6561d.
Dated: May 9, 2005.
Susan Sclafani,
Assistant Secretary for Vocational and Adult Education.

[FR Doc. 05-9618 Filed 5-12-05; 8:45 am]

BILLING CODE 4000-01-P